DEPARTMENT OF ENERGY

Federal Energy Regulatory Commission

[Docket No. RP99-176-133]

Natural Gas Pipeline Company of America; Notice of Tariff Filing and Negotiated Rate

April 10, 2007.

Take notice that on March 30, 2007, Natural Gas Pipeline Company of America (Natural) tendered for filing as part of its FERC Gas Tariff, Sixth Revised Volume No. 1, the following tariff sheets, to become effective May 1, 2007:

Second Revised Sheet No. 26M

Original Sheet No. 414A.08

Natural also tendered for filing the related Transportation Rate Schedule FTS Agreement with a Negotiated Rate Exhibit (Agreement).

Natural states that the purpose of this filing is to remove reference to a former negotiated rate arrangement that has expired and to implement a new negotiated rate arrangement entered into by Natural and Laclede Energy Resources, Inc. under Natural's Rate Schedule FTS pursuant to Section 49 of the General Terms and Conditions of its Tariff. The Agreement also contains non-conforming tariff provisions and is listed on Sheet No. 414A.08, which identifies Natural's non-conforming agreements.

Natural states that copies of the filing are being mailed to all parties set out on the Commission's official service list in Docket No. RP99-176.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-7171 Filed 4-13-07; 8:45 am]

BILLING CODE 6717-01-P